DEPARTMENT OF TRANSPORTATION

Federal Highway Administration

Environmental Impact Statement: Orange County, NC

AGENCY: Federal Highway Administration (FHWA), DOT.

ACTION: Notice of intent.

SUMMARY: The Federal Highway Administration is issuing this notice to advise the public that an environmental impact statement will be prepared for the extension of Elizabeth Brady Road in Hillsborough, Orange County, North Carolina (TIP Project U-3808).

FOR FURTHER INFORMATION CONTACT: Clarence W.Coleman, PE, Operations Engineer, Federal highway Administration, 310 New Bern Avenue, Suite 410, Raleigh, North Carolina 27601-1418, Telephone: (919) 856-4350, ext. 133; or

Vincent J. Rhea, PE, Project Engineer, North Carolina Department of Transportation, 1548 Mail Service Center, Raleigh, NC 27699-1548, Telephone: (919) 733-7844, ext. 261.

SUPPLEMENTARY INFORMATION: The FHWA, in cooperation with the North Carolina Department of Transportation (NCDOT), will prepare an Environmental Impact Statement (EIS) on a proposal to improve and extend Elizabeth Brady Road from US 70 Business to US 70 Bypass. The proposed project would be approximately 1.5 miles (2.4 kilometers) in length and would include either a new bridge across the Eno River or reconstruction of an existing bridge.

The proposed project is considered necessary to relieve forecasted congestion in downtown Hillsborough along Churton Street (US 70 Business) and St. Mary's Road. Alternatives under consideration include: (1) Taking no action; (2) Two alignment alternatives that would require construction of a new bridge over the Eno River; and (3) One alignment alternative that would not require construction of a new bridge. The alternatives to be evaluated in the EIS were chosen based on the results of an alternatives analysis conducted in 2003 and 2004 which evaluated six build alternatives.

On December 14, 2000, an interagency scoping meeting was held to introduce the project to Federal, State, and local agencies. Key environmental issues raised during the meeting were: (1) Impacts to historic resources, including Ayr Mount and a former NASCAR race track; and (2) increased flooding of the Eno River due to highway structures. In January 2001, a letter describing the proposed action and soliciting comments was sent to appropriate Federal, State and local agencies.

In July 2003, as part of the alternative study, a citizen informational workshop was held. A second citizen informational workshop was held in September 2004 following identification of alternatives to be evaluated.

To ensure that the full range of issues related to this proposed action are addressed and all significant issues identified, comments and suggestions are invited from all interested parties. Comments or questions concerning this proposed action and the EIS should be directed to the FHWA at the address provided above.

Clarence W. Coleman, PE
Operations Engineer, Raleigh, North Carolina.

[FR Doc. 05-11665 Filed 6-13-05; 8:45 am]

BILLING CODE 4910-22-M